DEPARTMENT OF TRANSPORTATION

National Highway Traffic Safety Administration

Innovative Grants To Support Increased Seat Belt Use Rates

AGENCY: National Highway Traffic Safety Administration (NHTSA), DOT.

ACTION: Re-issuance of announcement of grants to support innovative and effective projects designed to increase seat belt use rates.

SUMMARY: On April 30, 2001, the National Highway Traffic Safety Administration (NHTSA) published an announcement of grants to support innovative and effective projects designed to increase seat belt use rates. After the announcement was published, the agency decided that it contained a number of requirements that might be burdensome to the grant applicants. Accordingly, the announcement published on April 30, 2001 is cancelled. That announcement has been revised and is being re-issued in its entirety in this notice.

In this notice, NHTSA announces the third year of a grant program under Section 1403 of the Transportation Equity Act for the 21st Century (TEA-21) to provide funding to States for innovative projects to increase seat belt use rates. Consistent with last year, the goal of this program is to increase seat belt use rates across the nation in order to reduce the deaths, injuries, and societal costs that result from motor vehicle crashes. However, unlike the first two years, when funds were determined and administered in a process similar to that of a contract, for this third year, selection for these Innovative Grants will be determined based on established criteria, and the distribution of funds will be administered in a fashion similar to other highway safety grants, including use of the Grant Tracking System (GTS). This notice solicits applications from the States, the District of Columbia and Puerto Rico, through their Governors' Representatives for Highway Safety, for funds to be made available in fiscal year (FY) 2002. Detailed application instructions are provided in the Application Contents and Grant Criteria section of this notice. The Section 157 Innovative Grants will be awarded to States that comply with the criteria set out in the Application Contents and Grant Criteria Section of this notice.

DATES: Applications must be received by the appropriate NHTSA Regional Office on or before August 1, 2001.

ADDRESSES: Each State must submit its application to the appropriate NHTSA Regional Office, to the attention of the Regional Administrator, on or before Wednesday, August 1, 2001. Addresses of the ten Regional Offices are listed in Appendix A.

FOR FURTHER INFORMATION CONTACT: Questions relating to this grant program should be directed to Philip Gulak, Occupant Protection Division (NTS-12), Office of Traffic Injury Control Programs, NHTSA, 400 Seventh Street, S.W., Room 5118, Washington, DC 20590, by e-mail at pgulak@nhtsa.dot.gov, or by phone at (202) 366-2725. For legal issues, contact Ms. Heidi L. Coleman, Office of Chief Counsel, NCC-30, NHTSA, 400 Seventh Street, S.W., Room 5118, Washington, DC 20590, by phone at (202) 366-1834. Interested applicants are advised that no separate application package exists beyond the contents of this announcement.

SUPPLEMENTARY INFORMATION:

Background

The Transportation Equity Act for the 21st Century (TEA-21), Pub. L. 105-178, was signed into law on June 9, 1998. Section 1403 of TEA-21 contained a safety incentive grant program regarding seat belt usage rates in the States. Under this program, funds are allocated each fiscal year from 1999 until 2003 to States that exceed the national average seat belt use rate or that improve their State seat belt use rate, based on certain required determinations and findings. Section 1403 provided that, beginning in FY 2000, any funds remaining unallocated in a fiscal year after the determinations and findings related to seat belt use rates have been made are to be used to “make allocations to States to carry out innovative projects to promote increased seat belt use rates.” Today's notice solicits applications for funds that will become available in FY 2002 under this provision.

TEA-21 imposes several requirements under the innovative projects funding provision. Specifically, to be eligible to receive an allocation, a State must develop a plan for innovative projects to promote increased seat belt use rates statewide and submit the plan to the Secretary of Transportation (by delegation, to NHTSA). NHTSA was directed to establish criteria governing the selection of State plans that are to receive allocations and was further directed to “ensure, to the maximum extent practicable, demographic and geographic diversity and a diversity of seat belt use rates among the States selected for allocations.” Finally, subject to the availability of funds, TEA-21 provides that the amount of each grant under a State plan is to be not less than $100,000.

In the following sections, the Agency describes the application and award procedures for receipt of funds under this provision, including requirements related to the contents of a State's plan for innovative projects and the criteria the agency will use to determine whether a State will receive an award. To assist the States in formulating plans that meet these criteria, we have provided (in Appendix B) a discussion of recent strategies which have been effective in increasing seat belt use and the ways in which States might meet the criteria for an award. Clearly, efforts undertaken over the past few years have not resulted in major increases in seat belt usage rates in several States. In some cases, it appears that States have reached plateaus, beyond which additional increases will be difficult to achieve. For States with usage rates lower than 70 percent, the question remains as to why past efforts have not been more effective in increasing usage. For States with usage rates of 70 percent or above, a different problem exists. Here, additional gains will be relatively more difficult and will require more powerful interventions than have been used in the past.

When usage rates do not increase following the implementation of a seat belt program, it is difficult for a State to determine if the lack of impact is the result of strategies which have little potential for change or if it is the result of strategies that have not been implemented with sufficient strength to realize their potential. Objective evaluations that measure both public awareness and changes in seat belt usage are essential for a State to determine which programs or program components are having an impact, and to provide an opportunity to enhance program strategies. Thus, all States receiving grants are required to conduct at least a basic evaluation of the impact of their programs on public awareness and seat belt use. An adequate plan for evaluation must be submitted as part of the State's application. However, NHTSA acknowledges that more in-depth evaluation will be necessary to accurately assess which program components and which levels of intensity are effective in increasing seat belt use. The level and scope of effort required for such in-depth evaluations may be beyond the ability, resources or perceived need of some States. Thus, in this solicitation, States are not required to, but may propose a plan for more in-depth evaluation, for which additional funds will be awarded to a limited number of States. NHTSA will award up to $4 million to fund the in-depth evaluations. Appendix C discusses issues relating to in-depth evaluations.

Recent NHTSA surveys show that only about 30 percent of the public across the nation are aware of national, state, or community efforts to increase seat belt use. However, States which have recently experienced significant increases in seat belt usage and have evaluated their efforts (e.g., Michigan and South Carolina), have shown that more than 70 percent of the public were aware of the program efforts (including law changes) which contributed to such changes. These evaluations suggest that the lack of public awareness may be a major reason why usage rates in many States have not been increasing. In States like Georgia, Maryland, Oklahoma, Michigan, Alabama, and New Jersey, recent primary law legislation has been a key factor in increasing public awareness. In other States, like New York, North Carolina and South Carolina, enforcement efforts were publicized to a sufficient degree to result in a high level of public awareness.

Objective of This Grant Program

The objective of this grant program is to increase State seat belt use rates, for both adults and children, by supporting the implementation of innovative projects that build upon strategies known to be effective in increasing seat belt use rates. Because one of the best ways to ensure that children develop the habit of buckling up is for parents to properly restrain them in child safety seats, efforts to increase the use of child safety seats, in addition to seat belts, may be included among the innovative efforts in a State's plan. However, efforts to increase seat belt use rates must remain the focus of the State's plan. (For a discussion of Strategies that have proven effective in increasing seat belt use, see Appendix B.)

To be considered for an award under this program in FY 2002, the State's innovative project plan must be based on a core component of highly visible enforcement of its seat belt use law or on a non-enforcement approach that has significant and documented potential for increasing the seat belt use rate statewide. If a State proposes a non-enforcement approach, the application must include an acceptable, preferably research-based, rationale describing its potential for impact. The application also must describe a media program designed to make the public aware of the proposed intervention. In addition, the State's proposed efforts must be statewide. If a State is already pursuing a significant and visible enforcement effort, the innovative aspects of the plan must detail components that support, expand, complement, and evaluate the existing enforcement effort. These essential and coordinated elements of the project plan have been effective in increasing seat belt use.

States submitting a proposal designed to increase seat belt use in only a limited number of jurisdictions, one that lacks a strong enforcement or credible non-enforcement effort, or one that does not include an evaluation component designed to measure both public awareness and changes in seat belt usage will be rejected in the evaluation process.

A State may demonstrate innovation in its enforcement efforts in a number of ways. If a State is not currently engaged in any form of highly visible enforcement of its occupant protection laws, implementation of such a program, in and of itself, would be innovative to that State. Finding new and more effective ways to make the public aware of the enforcement effort (e.g., a paid media effort) would demonstrate innovation. Additionally, innovation may be demonstrated by using new methods for gaining essential support (e.g., of the Governor or other key officials); by establishing statewide coordination groups to plan, implement and monitor the enforcement, media, outreach, or evaluation efforts; by implementing statewide enforcement training or orientation programs; or by proposing comprehensive ways to determine the impact of the program on diverse and low use groups. For States that already are engaged in substantial enforcement efforts, innovation can be demonstrated by expanding these efforts. This might include finding more effective ways to reach rural, urban, or diverse groups with strategies designed to address low seat belt use among those groups. States that have upgraded their laws recently to allow for primary/standard enforcement may wish to initiate innovative ways to implement, enforce, and publicize their newly enacted law. For States with secondary enforcement laws, where a motorist must be stopped for another offense before being cited for failure to buckle up, innovation may be demonstrated by integrating the enforcement of the seat belt law with enforcement of other traffic safety laws (e.g., impaired driving or speed limit). Many opportunities for innovation exist, regardless of the State's current seat belt use rate or its ongoing efforts to increase it.

Specific examples of various innovative activities that can be used in support of a core component of enforcement include:

—Expanding participation in the semi-annual national seat belt enforcement mobilizations (i.e., Operation ABC conducted in May and November);

—Implementing efforts to train, motivate, and recognize law enforcement officers for participation in the program;

—Implementing a training or orientation program for prosecutors and judges to make them aware of the program and of the importance of consistently prosecuting and adjudicating occupant protection law violations;

—Mounting a highly visible program to implement newly enacted legislation that upgrades the State's seat belt or child passenger safety law;

—Initiating or expanding public information and education programs designed to complement newly upgraded legislation and/or enhanced enforcement efforts;

—Strengthening public information efforts by adding a paid advertising component to support earned (i.e., news) and public service media efforts;

—Adopting a more focused message that brings attention to the ongoing enforcement effort (e.g., adopting a “Click It or Ticket” campaign message);

—Establishing new partnerships and coalitions to support ongoing implementation of legislation or enforcement efforts (e.g., health care and medical groups, partnerships with diverse groups, businesses and employers);

—Initiating or expanding public awareness and outreach efforts to reach specific populations that have low seat belt use (e.g., part-time users; parents of children 0-15 years old; minority populations, including Native Americans; rural communities; males 15-24 years old; occupants of light trucks and sport utility vehicles, etc.);

—Initiating or expanding standardized child passenger safety training of police officers and/or child passenger safety checks and/or clinics across broad geographical areas (e.g., statewide, in major metropolitan areas, and/or in rural areas of the State);

—Initiating or expanding enforcement of other traffic laws (e.g., impaired driving laws) as a means for implementing highly visible enforcement of seat belt use laws.

Self-Evaluations of Programs, Management and Resources

Meaningful and timely self-evaluations of each State's innovative programs, management, and associated resources are essential to improving the effectiveness of programs supported by this grant program. On an annual basis, grantees and NHTSA will provide a complete description of the program activities that were carried out (particularly enforcement, paid media and enforcement-related messaging) and of the effectiveness (or lack of effectiveness) of its overall program in creating public awareness and in increasing seat belt use. States may apply and qualify for additional funds, which can be used to conduct more in-depth evaluations in order to better determine the impact of the overall program or the contribution of specific program elements (e.g., individual enforcement waves, paid media, earned media and incentives). Such in-depth evaluation would be desirable for any State proposing the use of paid media in its program, particularly if $100,000 or more is to be spent for that purpose.

Availability of Funds and Period of Support

The efforts solicited in this announcement will be supported through the award of grants to a number of States, on the basis of the Grant Criteria identified subsequently in this notice. The number of grants awarded will depend upon the number of applications that meet the requirements of this notice. The amount of the awards (for other than the optional in-depth evaluation activities) available in FY 2002, will be based upon the formula described below. However, the minimum amount of an individual grant award to a State will be no less than $400,000, subject to the availability of funds. The $400,000 minimum has been derived based on experience gained over the first two years of this Innovative Grant program, and reflects NHTSA's best judgment about the amount of resources needed to implement effective statewide seat belt campaigns that include enforcement, media and a basic level of evaluation. The amounts to be awarded for in-depth evaluation activities will be determined based on each applicant's budget, as described below.

In FY 2001, forty-three Innovative Grants were awarded and grants ranged from $204,000 to $2.9 million. At this time, neither the exact amount of funds available nor the number of qualifying State applications can be determined. There is no assurance that the number of grant awards in FY 2002 will be the same or similar to the number of awards in FY 2000 or FY 2001, nor is there any assurance that those States that received awards in FY 2000 and FY 2001 will receive awards in FY 2002. There is no cost-sharing requirement under this program. The planned period for grant activity under this program will be a total of 15 months, with 12 months of plan implementation, and three months for evaluation and preparation of the annual report. Any funds remaining at the end of that period can be carried forward to the next year.

In the past two years, some States have expressed concern about the time taken to evaluate the proposals and arrive at award decisions. This year's proposals will be reviewed on the basis of whether or not the State's application complies with all of the required Grant Criteria specified in this Federal Register notice. Only applicants who comply with all of the required elements will be considered for award. Once it is determined by the evaluation committee that an applicant has met all of the criteria and the State has satisfied any additional clarification questions about the proposal, a State will qualify for an award. The dollar amount of these awards (not including funds for in-depth evaluation) will be based on the same formula that applies to the annual award for Section 402 funds (i.e., 75% based on population and 25% on roadway miles), subject to adjustments needed to ensure that: (1) Each qualifying State is awarded at least $400,000; and (2) up to $4 million will be used to fund in-depth evaluations. Appendix D shows the estimated amount that would be awarded to each State, not including funds for in-depth evaluation, based on current projections of available funds for FY 2002, assuming that all fifty-two eligible jurisdictions apply and qualify for an award, and assuming that a total of $4 million is used to fund in-depth evaluations.

Any State that qualifies for a grant and is interested in receiving additional funds to support an in-depth evaluation may apply for such funds by including in its application detailed information specified below under the heading Applications for Additional Funds to Conduct an In-depth Evaluation. These applications for additional funds will be reviewed and approved or disapproved on the basis of the scientific soundness of the approach to evaluation and on the reasonableness of the proposed budget for the in-depth evaluation. Please note that, if a State's request for additional funds for in-depth evaluation is rejected, the State may still qualify for a grant, provided that an acceptable basic evaluation plan is included in the application. Final grant amounts will be determined so that all available funds will be awarded. Subject to the availability of funds, NHTSA estimates that the award of section 157 Innovative Grants for FY 2002 will occur during November 2001.

Allowable Uses of Federal Funds

In FY 2002, the section 157 Innovative Grants will be administered in a fashion similar to other highway safety grants. Funds will be tracked through the GTS. Funds provided to a State under this grant program shall be used to carry out the activities described in the State's application for which the grant is awarded. In addition, allowable uses of Federal funds shall be governed by the relevant allowable cost section and cost principles referenced in 49 CFR Part 18—Department of Transportation Uniform Administrative Requirements for Grants and Cooperative Agreements to State and Local Governments.

Eligibility Requirements

Only the 50 States, the District of Columbia and Puerto Rico, through their Governors' Representatives for Highway Safety, will be considered eligible to receive funding under this grant program.

Application Procedures

Each applicant must submit one original and two copies of the application package to the appropriate NHTSA Regional Office (see Appendix A) to the attention of the Regional Administrator.

Applications must be typed on one side of the page only and adhere to the requirements of the Application Contents and Grant Criteria Section below. Appendix E provides a checklist to facilitate the preparation of the proposals. Only application packages submitted by a State's Governor's Representative for Highway Safety and received in the appropriate Regional Office on or before August 1, 2001, will be considered.

Application Contents and Grant Criteria

To be eligible for a grant under the section 157 (b) statute, a State must include a description and/or documentation that all of the following elements are included, and will be implemented, as part of the State's section 157 (b) grant program. This year, each State's application must include the following information.

1. Introduction

A brief description of the State's geographic and demographic population distribution, and any other unique characteristics (e.g., how the seat belt use rate varies within the State by vehicle type and by ethnic populations) that are relevant to the State's plan to increase seat belt use. The introduction should also include a problem identification statement that describes the State's usage rates.

2. Certifications

A signed statement by the State that: (i) It will use the funds awarded under this grant program exclusively to implement a statewide seat belt program in accordance with the requirements of Section 157(b) of P.L. 105-178 (TEA-21); (ii) It will administer the funds in accordance with 49 CFR Part 18 and OMB Circular A-87; (iii) It will provide to the NHTSA Regional Administrator no later than 15 months after the grant award a report of activities carried out with grant funds and accomplishments to date; and (iv) The State will comply with all applicable laws and regulations, financial and programmatic requirements.

3. Program Elements

(a) Seat Belt Use Goals—Describe the State's current goal for seat belt use and its intent to increase this goal based on this application.

(b) Strategies to Increase Seat Belt Use—Describe the State's plan for increasing seat belt use statewide by choosing one or more of the following strategies:

(1) Conduct two or more high-visibility seat belt enforcement campaigns, which include at least 7 days of aggressive enforcement during each campaign and which should be preceded and accompanied by a highly visible media campaign. These campaigns should complement and support the BUA/Operation ABC National Mobilizations (conducted in May and November) to the maximum extent possible;

(2) Conduct continuous high-visibility seat belt enforcement year round (i.e., 7 days week/24 hours per day model); or

(3) Implement a non-enforcement program that has the potential to reach the safety belt use goals as stated above in Program Element 3a. If a State selects this option, it must provide an acceptable (preferably research-based) rationale for the proposed approach (e.g., a summary of evidence of effectiveness), regarding the potential of the non-enforcement program to increase the State's seat belt use rate. Strategies could involve (but are not limited to) new and innovative messages for high risk groups, new delivery mechanisms for seat belt programs, new implementation partners, or new or unusual approaches to seat belt enforcement. States opting to take a non-enforcement approach should lay out an acceptable rational foundation for why they believe that the approach will work, including a detailed problem identification component. Research-based approaches are preferred.

(c) Statewide Program—If the State proposes an enforcement-based strategy to increase seat belt use, the application must describe/demonstrate a commitment from the State Patrol/Police (if any), and local law enforcement agencies that must serve the majority of the population, to participate actively in highly visible seat belt enforcement efforts consisting of checkpoints, saturation patrols or other enforcement operations. For example, describe the State's preliminary enforcement plan, existing enforcement participants representing State and local enforcement agencies, or letters of commitment. If the State proposes a non-enforcement strategy to increase seat belt use, the application must describe/demonstrate a commitment to implement the strategy in communities serving the majority of the population. For example, describe the State's preliminary implementation plan, existing communities participating in the non-enforcement strategy, or letters of commitment.

(d) Personnel—Describe management and staffing adequate to implement the Strategies to Increase Seat Belt Use, that includes planning and coordination of enforcement, media/public information and evaluation.

(e) Public Information and Education Strategy—Describe the State's plan for a statewide public information and education (PI&E) strategy to focus public attention on the enforcement (or other proposed) effort. A combination of paid, public service and earned media may be considered as meeting this requirement for the overall PI&E strategy.

4. Evaluation Elements

In its application, the State must describe how, where and when it will conduct a basic evaluation of the activities supported by this grant. It must also include a description of how the evaluation effort will be implemented and managed.

The basic evaluation must, at a minimum, include at least one statewide public awareness survey, in addition to the State's annual observational survey of statewide seat belt use.

NHTSA recognizes that many States already have comprehensive efforts underway to evaluate their total occupant protection programs. NHTSA encourages the State to integrate the evaluation of this program with those broader efforts. NHTSA is prepared to offer technical assistance for evaluation, including providing survey protocols and instruments to any State upon request and, to the extent possible, data analysis support.

5. Budget for the Innovative Program With Basic Evaluation:

Each State's application must include a budget totaling the amount specified for that State in Appendix D. A budget that exceeds the specified amount for a program with only basic evaluation will not be accepted. The budget shall include the following categories:

a. Strategies to Increase Seat Belt Use—Estimate the funds devoted to the proposed strategy (e.g., sub-grants to law enforcement agencies, mini-grants, consultants or other strategies).

b. Personnel—Include the estimated total cost for personnel.

c. Public Information and Education—Estimate the funds devoted to each key element of the PI&E component, which may or may not include the following:

—Public relations consultants;

—Campaign events;

—Paid media;

—Materials and incentives; and

—Other PI&E costs.

d. Basic Evaluation—Include the estimated cost for conducting a basic evaluation (i.e., at least one measurement of statewide public awareness of the program during the period of performance).

Applications for Additional Funds To Conduct an In-Depth Evaluation

A State wishing to apply for additional funds to conduct a more in-depth evaluation of its grant activities must prepare a more detailed evaluation plan and budget and submit this plan and budget along with the plan and budget for a program including only a basic evaluation. At a minimum, this optional in-depth evaluation plan must include measurement of the impact of the program on public awareness and on seat belt use on at least three occasions, as the program progresses through its 12 month period of performance. A more complete evaluation capable of estimating the impact of specific program components should measure public awareness and seat belt use at various phases of multi-phased programs. Such an approach would be essential for any State proposing to include a significant paid media component in a multi-wave program strategy. States may submit more than one in-depth evaluation plan, with a budget for each alternative plan. However, no more than one in-depth evaluation plan will be funded for any one State. Appendix C outlines some issues relevant to in-depth evaluation. Interested States are encouraged to adapt these ideas, evaluation tools and guidelines to their own unique programs and situations.

Reporting Requirements and Deliverables

Each successful applicant will be responsible for providing the following reports:

Quarterly Reports—The quarterly reports should include a summary of enforcement and other activities and accomplishments for the preceding period, significant problems encountered or anticipated, a brief itemization of expenditures made during this 3 month time period, and proposed activities for the upcoming reporting period. Please note: Many States will be continuing to spend funds awarded during the first two years of this Section 157 Innovative Grant program after these third year funds are awarded. NHTSA does not intend nor desire that States submit separate Quarterly Reports for the various funding years. Activities carried out during a reporting period under all three years of funding should be documented in the same report. However, the State should include a tabulation of how much funds were expended during the reporting period from each year. Also, during the first two years, a number of States modified their grants to change from Quarterly to Monthly reporting. Those States should continue to submit Monthly Reports during the third year, at least until all first year and second year funds have been spent. Any decisions and actions required in the upcoming program period should be included in the report.

Final Report—A Final Report that includes a summary of the impact of the year-long program. It should include a complete description of the innovative activities conducted, including the involvement of partners; overall program implementation; evaluation methodology and findings from the program evaluation, including all measurements of public awareness and seat belt use. These measurements must include at least one measure of statewide public awareness and the measure of statewide seat belt use. In terms of information transfer, it is important to know what worked and what did not work, under what circumstances, and what can be done to avoid potential problems in future projects. The grantee shall submit three copies of the Final Report to the Regional Office within fifteen months following grant award.

Application Review Procedures

All applications will be reviewed to ensure that the application contains all of the information required by the Application Contents and Grant Criteria section of the Federal Register notice. This evaluation process may include submission of technical or program questions to the applicants, to determine eligibility. Once it has been determined which applicants have met the grant criteria, NHTSA will determine the final award amounts based on the amount of remaining funds from the Section 157 Incentive Grant program, the formula as described under the Availability of Funds and Period of Support Section and the budgets for approved in-depth evaluation plans. It is anticipated that awards will be made in November 2001.

Marilena Amoni,
Acting Associate Administrator for Traffic Safety Programs.

Appendix A—NHTSA Regional Offices

REGION I (CT, MA, ME, NH, RI, VT), Volpe National Transportation Systems Center 55 Broadway, Kendall Square, Code 903, Cambridge, MA 02142

REGION II (NJ, NY, PR), 222 Mamaroneck Avenue, Suite 204, White Plains, NY 10605

REGION III (DE, DC, MD, PA, VA, WV), 10 South Howard Street, Suite 4000, Baltimore, MD 21201

REGION IV (AL, FL, GA, KY, MS, NC, SC, TN), Atlanta Federal Center, 61 Forsyth Street, SW., Suite 17T30, Atlanta, GA 30303

REGION V (IL, IN, MI, MN, OH, WI), 19900 Governors Drive, Suite 201, Olympia Fields, IL 60461

REGION VI (AR, LA, NM, OK, TX), 819 Taylor Street, Room 8A38, Fort Worth, TX 76102-6177

REGION VII (IA, KS, MO, NE), 901 Locust Street, Room 466, Kansas City, MO 64106

REGION VIII (CO, MT, ND, SD, UT, WY), 555 Zang Street, Room 430, Lakewood, CO 80228

REGION IX (AZ, CA, HI, NV), 201 Mission Street, Suite 2230, San Francisco, CA 94105

REGION X (AK, ID, OR, WA), 3140 Jackson Federal Building, 915 Second Avenue, Seattle, WA 98174

Appendix B—Strategies That Have Proven Effective in Increasing Seat Belt Use

In previous years, Federal Register notices for Section 157 Innovative Grants provided a history of programs that have been documented to increase seat belt usage in the United States and Canada over the past two decades (for copies of those Federal Register notices, contact the person listed below). In the summary of the history of seat belt programs, the Agency explained that nearly every example of significant increases in statewide usage rates since 1984 resulted from: (a) Enactment and implementation of a State seat belt usage law; (b) a legislative upgrade from a secondary to a primary/standard enforcement law; or (c) a highly visible effort to enforce seat belt laws.

The intent of the section 157 Innovative Grant legislation was to provide support for innovative programs that would be effective in increasing seat belt usage rates in the States. Since all States but one already have enacted seat belt use laws, and since the intent of this legislation was not to support lobbying efforts to obtain primary enforcement laws, the focus of this grant program has been on innovative and effective ways to develop, implement, support, and evaluate highly visible enforcement programs.

Again, aside from the implementation of seat belt use laws, these programs are the only efforts that have consistently been shown to be effective in increasing seat belt usage rates statewide (e.g., as in the national 70% by '92 program and in specific statewide efforts undertaken in North Carolina, Georgia, Maryland, New York, Michigan, and several other States). These documented successes generally have involved Special Traffic Enforcement Programs (STEPs), in which waves of enforcement and media are carefully scheduled to gain maximum public awareness. The potential effectiveness of these STEP programs recently has been enhanced as a result of the ability of States to use paid media, in addition to their use of news stories and public service announcements, to increase public awareness of the enforcement efforts. Their potential for success has been increased also by the national enforcement mobilizations (i.e., Operation ABC) conducted twice annually by the private-sector funded Air Bag & Seat Belt Safety Campaign (AB&SBSC), in cooperation with NHTSA. These mobilizations involve extensive efforts to contact and obtain the participation of State and local law enforcement agencies in all of the States and to initiate focused media efforts in major markets to make the public aware of the enforcement mobilizations. This Innovative Grant program greatly increases the potential effectiveness of the national enforcement mobilizations and the overall Buckle Up America program.

Since 1999, there have been several notable successes, in which large States, such as Michigan and New York, have increased seat belt usage significantly. In Michigan, the increases resulted from a combination of enacting a primary seat belt usage law and implementing a highly visible program to enforce that law. In New York, which already had a primary seat belt law, significant increases in seat belt usage resulted from a highly visible statewide enforcement program, funded in part by the AB&SBSC and coordinated by the New York State Police. Maryland enacted a primary seat belt law and, following a two month Chiefs’ Challenge enforcement program, experienced a major increase in seat belt use. Oklahoma enacted a primary seat belt law and experienced a modest increase in seat belt usage. Later, a paid media program resulted in an additional increase. Florida, which has introduced but failed to enact primary seat belt legislation, has enhanced its statewide seat belt enforcement program and its use of law enforcement liaisons (LELs). As a result, Florida recently experienced a five percentage point increase in usage statewide. These examples represent some of the most significant recent increases in usage in the States and they represent a mixture of private sector, Section 402, 405, 2003(b) and Section 157 Incentive and Innovative Grants funded efforts.

One of the clearest examples of a fully-implemented, innovative and effective statewide program is the South Carolina “Click It or Ticket” program, implemented in November 2000. The term “fully implemented” refers to the fact that the combination of enforcement and media efforts was sufficient to make 75-80 percent of the public aware of the program. The South Carolina program included several innovative and effective components, including statewide management of more than 3,000 enforcement events (i.e., checkpoints) over a two-week period, use of an explicit enforcement message (i.e., Click It or Ticket) delivered by means of a combination of earned and paid media, full coordination with the Operation ABC mobilization periods, a diversity outreach program that included reaching African Americans via churches and schools to make them aware of the enforcement effort, and a comprehensive evaluation program, which included measurement of both the public awareness of the program and changes in observed seat belt usage at each phase of the program (e.g., during the kickoff and news media phase, the paid media phase and the enforcement phase), as well as before and after the program was implemented. As a result of this effort, South Carolina was able to document a nine percentage point increase in seat belt usage statewide. Further, it was able to show that the paid media effort clearly contributed significantly to public awareness and changes in seat belt usage. The State was able to document the extent to which groups with traditionally lower seat belt usage rates (e.g., male, rural, and African American motorists) were impacted.

More than a dozen States are using Section 157 Innovative Grant funds, each in slightly different ways, to fully implement and evaluate similar STEP programs during the May 2001 mobilization period. These States established statewide coordinating committees for enforcement, media, outreach and evaluation efforts; made selective use of paid media efforts; used unambiguous enforcement messages; found innovative ways to reach high risk groups such as young males and occupants of light trucks to make them aware of the planned enforcement activity; and implemented comprehensive evaluation efforts, similar to those used in the South Carolina program, to measure impact at each phase of the program. This evaluation model consisted of statewide observational and telephone surveys conducted before and after the program, as well as mini-observational surveys and motorist surveys during each phase of the program. NHTSA will provide, upon request, protocols and templates for both the telephone surveys and the motorist surveys, as well as descriptions of how these surveys are being used in conjunction with the State's approved observational surveys to evaluate Section 157 Innovative Grant program efforts. Interested States should contact Philip Gulak, Occupant Protection Division (NTS-12), Office of Traffic Injury Control Programs, NHTSA, 400 7th Street, S.W., Room 5118, Washington, DC 20590, by e-mail at pgulak@nhtsa.dot.gov, or by phone at (202) 366-2725, for this information.

The dramatic recent successes in the above mentioned States add further credibility to NHTSA' position that highly visible enforcement is an important foundation upon which any effective program funded under Section 157 should be based. A recent review by an independent Task Force supported by the Centers for Disease Control and Prevention provides even more credibility for the effectiveness of high visibility enforcement efforts (as well as for primary seat belt laws). The recent examples of States that have “fully-implemented” enforcement, conducted public information efforts designed to reach 75-80 percent of the populace, and selectively used paid media to make the public aware of the enforcement activity are very encouraging. Also encouraging are the recent efforts in some States to develop comprehensive evaluation efforts, which measure changes in both public awareness and seat belt use at various stages of the program.

Appendix C—Guidelines Relating to Proposed In-Depth Evaluation

The fundamental objectives for in-depth evaluation are to accurately measure shoulder belt use by drivers and front seat outboard passengers in passenger motor vehicles and to measure public awareness of the intervention program at various stages throughout the program. Many States may also wish to determine the public's attitude toward the program as it progresses through its various phases.

Nearly every State has a seat belt observational survey protocol that conforms to NHTSA's “Uniform Criteria for State Observational Surveys of Seat Belt Use,” published in the Federal Register on Tuesday, March 14, 2000. That protocol provides a useful foundation for designing the observational survey component of an in-depth evaluation. Perhaps the most rigorous option would be for the State to conduct its full, official statewide survey each time a measurement of seat belt use is taken. However, this would likely be far too expensive for most States to do. An acceptable alternative would be to conduct mini-surveys for some or all of the measurements of seat belt use throughout the program. A mini-survey consists of observations taken at a sub-sample of the sites employed in the full, official statewide survey. The sub-sample of sites should be selected in a way that provides coverage of important segments of the State (e.g., rural and urban, racial and ethnic diversity), as well as populations or geographical areas targeted by the intervention. This same sub-sample of sites should be used for each mini-survey and observations should be conducted following specified procedures, which are the same each time the mini-survey is administered. NHTSA has used such mini-surveys in past evaluations and will, upon request, provide technical assistance to States in selecting appropriate sub-samples. However, it is ultimately up to the States to determine how many and which sites should be used for the mini-surveys. The value of using a sub-sample of the State's official survey for such measurements is that this sub-sample will continue to be part of the annual surveys and, thus, seat belt use at these same sites can be tracked over time.

To measure public awareness (and attitudes), NHTSA recommends using either telephone surveys (statewide, or for targeted populations) or motorist surveys conducted at motor vehicle licensing centers, or a combination of the two. Motorist surveys are generally less expensive than telephone surveys but they are also less representative of the entire state. NHTSA has developed both a protocol and a survey instrument for each type of awareness and attitude survey. NHTSA will, upon request, provide these instruments to any State wishing to use them.

The State may propose alternative strategies for measuring seat belt use or public awareness, if it feels that such strategies would adequately meet the requirements of a scientific evaluation.

NHTSA anticipates that most applicants for grants in FY 2002 will submit program strategies in which the core intervention (e.g., intensified enforcement) is applied in several distinct phases over the course of the year. For example, on two or more occasions during the 12-month period of performance, a State would conduct an enforcement wave, including a kickoff or earned media phase followed by the enforcement phase. In some States, it is anticipated that there will also be a paid media phase, usually implemented between the earned media and enforcement phases. At a minimum, an in-depth evaluation of a total program would measure seat belt use and public awareness (and attitudes) on at least three occasions, including before the first intervention or wave, midway through the 12-month performance period, and after the last intervention or wave. Such a design would not permit the State to determine how much a particular component or set of components of a wave (i.e., the earned media, the paid media or the enforcement) contributed to public awareness or seat belt use, but it would measure the contribution of the program as a whole. And, such an approach would be superior to the basic evaluation that is required for this grant program, (i.e., where only one seat belt use and public awareness measurement is taken over the course of a year). A more complete evaluation design would apply multiple measurements of seat belt use and public awareness during each unique phase of each wave, as well as before and after each wave. In this way, the contributions of at least some of the individual components could be assessed. This would be extremely important for a State employing a paid media component. Such an approach would result in a survey schedule as follows:

Pre-wave | Earned media | Paid media | Enforcement | Post-wave
Surveys | Surveys | Surveys | Surveys | Surveys

Such a design would require considerably more effort and resources, but it also would enable the State to estimate how much selected components of its program contributed to changes in public awareness and seat belt use.

NHTSA will carefully consider all proposed approaches to more in-depth evaluation, ranging from measurements taken at three points during the year to a more comprehensive approach designed to measure change during specific phases of the program. States may also propose approaches to in-depth evaluation that differ from those described in this Appendix. In addition, States may submit two or more alternative plans for in-depth evaluation, with a corresponding budget for each. However, no more than one in-depth evaluation plan will be funded for any one State.

Appendix D—FY2002 State Estimates for Section 157 Innovative Awards*

State | FY 2002 estimates
Alabama | $735,000
Alaska | 400,000
Arizona | 585,000
Arkansas | 535,000
California | 4,045,000
Colorado | 620,000
Connecticut | 450,000
Delaware | 400,000
District of Columbia | 400,000
Florida | 1,870,000
Georgia | 1,080,000
Hawaii | 400,000
Idaho | 400,000
Illinois | 1,745,000
Indiana | 915,000
Iowa | 625,000
Kansas | 645,000
Kentucky | 640,000
Louisiana | 670,000
Maine | 400,000
Maryland | 660,000
Massachusetts | 820,000
Michigan | 1,440,000
Minnesota | 870,000
Mississippi | 500,000
Missouri | 940,000
Montana | 400,000
Nebraska | 430,000
Nevada | 400,000
New Hampshire | 400,000
New Jersey | 1,030,000
New Mexico | 400,000
New York | 2,475,000
North Carolina | 1,060,000
North Dakota | 400,000
Ohio | 1,620,000
Oklahoma | 670,000
Oregon | 520,000
Pennsylvania | 1,750,000
Rhode Island | 400,000
South Carolina | 590,000
South Dakota | 400,000
Tennessee | 815,000
Texas | 2,835,000
Utah | 400,000
Vermont | 400,000
Virginia | 935,000
Washington | 800,000
West Virginia | 400,000
Wisconsin | 880,000
Wyoming | 400,000
Puerto Rico | 465,000
* The number of States receiving awards will depend upon the number of applications that meet the requirements of this Federal Register notice. Final grant amounts will be adjusted so that all available funds will be awarded.

Appendix E—Application Checklist

State | State contact person
Check Off: | Application and Grant Criteria:
1 | Introduction:
a. XX | a. Brief description of geographic and demographic population distribution.
b. XX | b. Any unique population characteristics (optional).
c. XX | c. Problem identification statement describing State's seat belt use.
2 | Certifications—A signed statement that the State will:
| (i) use the funds awarded under this grant program exclusively to implement an innovative program in accordance with the requirements of Section 157(b) of P.L. 105-178 (TEA-21).
| (ii) administer the funds in accordance with 49 CFR Part 18 and OMB Circular A-87.
| (iii) provide to the NHTSA Regional Administrator no later than 15 months after grant award a report of activities carried out with grant funds and accomplishments to date.
| (iv) comply with all applicable laws and regulations, financial and programmatic requirements.
3 | Program Elements:
a. __ | a. Goal: Description of State's current goal for seat belt use and intent to increase the goal based on this application.
b. __ | b. Strategies to Increase Seat Belt Use: Description of the State's plan for increasing seat belt use statewide employing one or more of the following strategies: (1) at least two 4-week high-visibility enforcement campaigns; (2) continuous high-visibility seat belt enforcement year round; or (3) a non-enforcement program that has the potential to reach the safety belt use goals.
c. __ | c. (if applicable) Rationale: Discussion demonstrating the potential of the proposed non-enforcement program to increase the State's seat belt use rate.
d. __ | d. Statewide Program:
| • If the program is enforcement-based: description or demonstration of commitment from the State Patrol/Police (if any), and local law enforcement agencies that serve the majority of the State's population.
| • If the program is non-enforcement based: description or demonstration of commitment from communities serving the majority of the State's population.
e. __ | e. Personnel: Description of management and staffing adequate to implement the program which includes Strategies to Increase Seat Belt Use, Media, Budget and Evaluation.
f. __ | f. Public Information and Education Strategy: Description of the State's plan for a statewide public information and education strategy to focus public attention on the proposed effort.
4 | Basic Evaluation Elements:
a. __ | a. Measurement: Description of how, where and when statewide public awareness of the program and statewide seat belt usage will be measured (must be at least once during the project period).
5 | Budget:
a. __ | a. Strategies to Increase Belt Use: Estimate of the funds devoted to the proposed strategy (e.g., sub-grants to law enforcement, mini-grants, consultants, etc.).
b. __ | b. Personnel: Estimate of the total cost for personnel.
c. __ | c. Public Information and Education: Estimate of the funds to be devoted to media and advertising (e.g., public relations consultants, campaigns, paid media, materials, incentives, etc.).
d. __ | d. Basic Evaluation: Estimate of the cost for conducting the basic evaluation (minimum of one measurement of public awareness).
e. __ | e. Total: Verification that budget totals amount specified in Appendix D.

Optional In-Depth Evaluation Application Checklist
| In-Depth Evaluation Elements:
a. __ | a. Measurement: Description of how, where and when statewide public awareness of the program and statewide seat belt usage will be measured (must be at least three times during the project period), as well as any other measures that will be taken.
b. __ | b. Management and Implementation: Description of how the evaluation effort will be implemented, managed and documented.
| Budget for the In-Depth Evaluation:
c. __ | c. Cost of observational surveys.
d. __ | d. Cost of telephone surveys.
e. __ | e. Cost of other surveys (if applicable).
f. __ | f. Cost of other data collection activities (if applicable).
g. __ | g. Cost of data analysis.
h. __ | h. Other In-Depth Evaluation Cost Elements.

[FR Doc. 01-13790 Filed 5-31-01; 8:45 am]

BILLING CODE 4910-59-P